DEPARTMENT OF ENERGY

Federal Energy Regulatory Commission

[Docket No. GT95-11-002]

Williams Gas Pipelines Central, Inc.; Notice of Filing of Refund Report

May 31, 2001.

Take notice that on May 18, 2001, Williams Gas Pipelines Central, Inc. (Williams), tendered for filing its report of activities regarding collection of Kansas ad valorem taxes. The report covers refund obligations attributable to tax bills rendered to Williams after June 28, 1988 only.

Williams states that pursuant to the August 7, 2000 Settlement Agreement and subsequent Order Granting Clarification, Williams will make its annual refund report regarding collections under Docket No. RP98-52 on May 31, 2001.

Williams states that a copy of its filing was served on all parties included on the official service list maintained by the Secretary in this proceeding.

Any person desiring to protest said filing should file a protest with the Federal Energy Regulatory Commission, 888 First Street, NE., Washington, DC 20426, in accordance with Section 385.211 of the Commission's Rules and Regulations (18 CFR 385.211). All such protests must be filed on or before June 8, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14196 Filed 6-5-01; 8:45 am]

BILLING CODE 6717-01-M